NATIONAL LABOR RELATIONS BOARD

Further Amendment to Memorandum Describing Authority and Assigned Responsibilities of the General Counsel

AGENCY: National Labor Relations Board.

ACTION: Amendment of delegation of administrative authority to General Counsel under section 3(d) of National Labor Relations Act.

SUMMARY: The National Labor Relations Board is amending the memorandum describing the authority and assigned responsibilities of the General Counsel of the National Labor Relations Board with respect to administrative functions. The revisions are being adopted in order to establish an Office of the Chief Financial Officer and to reestablish lines of authority within the administrative structure of the Agency.

DATES: Effective Date: July 23, 2012.

ADDRESSES: National Labor Relations Board, 1099 14th Street NW., Room 11600, Washington, DC 20570.

FOR FURTHER INFORMATION CONTACT: Lester A. Heltzer, Executive Secretary, National Labor Relations Board, 1099 14th Street NW., Washington, DC 20570. Telephone: (202) 273-1067 (this is not a toll-free number), 1-866-315-6572 (TTY/TDD).

SUPPLEMENTARY INFORMATION: Pursuant to the provisions of section 3(a) of the Administrative Procedure Act (Pub. L. 404, 79th Cong., 2d Sess.), the National Labor Relations Board hereby separately states and currently publishes in the Federal Register the following further amendment to Board memorandum describing the authority and assigned responsibilities of the General Counsel of the National Labor Relations Board.

The Board memorandum describing the authority and assigned responsibilities of the General Counsel of the National Labor Relations Board effective April 1, 1955, as amended September 8, 1958 (effective August 25, 1958), August 12, 1959 (effective August 3, 1959), April 28, 1961 (effective May 15, 1961), and October 4, 2002 (effective October 1, 2002) (appearing at 20 FR 2175, 23 FR 6966, 24 FR 6666, 26 FR 3911 and 67 FR 62992, respectively), is hereby further amended as follows:

1. Strike the text of paragraph 6 of section VII of the amendment dated October 4, 2002 (effective October 1, 2002), and substitute the following:

6. The Agency shall appoint a Chief Financial Officer (“CFO”), who will jointly report to the General Counsel and the Chairman of the Board. The Budget, Finance and Acquisitions Management Branches shall be realigned under the authority of the CFO, and placed with the Office of the Chief Information Officer, Office of the Inspector General, Office of Equal Employment Opportunity and Office of Employee Development outside the Division of Administration.

2. Add the following paragraph 7 to the text of section VII of the amendment dated October 4, 2002 (effective October 1, 2002):

7. The Chairman of the Board shall have full and final authority over the selection, retention, transfer, promotion, demotion, discipline, discharge and evaluation of those persons holding Senior Executive Service positions in the Division of Administration, the senior management officials in the Office of Equal Employment Opportunity and the Office of Employee Development, the Chief Information Officer and the Chief Financial Officer.

Authority: Sections 3, 4, 6, and 10 of the National Labor Relations Act, 29 USC Sec. 3, 4, 6, and 10.

Dated: Washington, DC, July 17, 2012.
By direction of the Board.
Lester A. Heltzer,
Executive Secretary.

[FR Doc. 2012-17804 Filed 7-20-12; 8:45 am]

BILLING CODE 7545-01-P